DEPARTMENT OF EDUCATION

Privacy Act of 1974; System of Records

AGENCY: White House Initiative on Educational Excellence for Hispanic Americans, Office of Intergovernmental and Interagency Affairs, Department of Education.

ACTION: Notice of a new system of records.

SUMMARY: In accordance with the Privacy Act of 1974, as amended, the Department of Education (the Department) publishes this notice of a new system of records entitled “Partners in Education (18-06-05).” The system will contain information on individuals who have indicated an interest in receiving information about the White House Initiative, its publications and programs, and ways in which they can become partners. The information maintained in the system includes the individual's name, affiliation, mailing address, telephone number, fax, e-mail address, and system-generated identifiers. The information that will form the new system of records will be collected through various sources, including telephone, written, and e-mail inquiries, as well as written requests to be included in the Partners in Education system of records database submitted at meetings, conferences, and events at which the White House Initiative is present or participating. The information will be entered into a database on a computer in order to generate mailing labels, for the purpose of mailing out publications and program information, and lists to Federal, State, or local agencies to fulfill that Federal, State, or local agency's responsibilities under Executive Order 13230, 66 FR 52841. The Department seeks comment on this new system of records described in this notice, in accordance with the requirements of the Privacy Act.

DATES: We must receive your comments on the proposed routine uses for this system of records included in this notice on or before March 1, 2002.

The Department filed a report describing the new system of records covered by this notice with the Chair of the Committee on Governmental Affairs of the Senate, the Chair of the Committee on Government Reform and Oversight of the House, and the Administrator of the Office of Information and Regulatory Affairs, Office of Management and Budget (OMB) on January 25, 2002. This new system of records will become effective at the later date of— (1) the expiration of the 40-day period for OMB review on March 6, 2002, or (2) March 1, 2002, unless the system of records needs to be changed as a result of public comment or OMB review.

ADDRESSES: Address all comments on the proposed routine uses of this system to Leslie Sanchez, Executive Director, White House Initiative on Educational Excellence for Hispanic Americans, Office of Intergovernmental and Interagency Affairs, U.S. Department of Education, 400 Maryland Avenue, SW., Federal Building 6, Room 5E110, Washington, DC 20202. If you prefer to send comments through the Internet, use the following address: comments@ed.gov.

You must include the term “Partners in Education” in the subject line of your electronic comment.

During and after the comment period, you may inspect all public comments about this notice in room 5E110, 400 Maryland Avenue, SW., Federal Building 6, Washington, DC, between the hours of 8:00 a.m. and 4:30 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this notice. If you want to schedule an appointment for this type of aid, you may call (202) 205-8113 or (202) 260-9895. If you use a telecommunications device the deaf (TDD), you may call the Federal Information Relay Service (FIRS) at 1-800-877-8339.

FOR FURTHER INFORMATION CONTACT: Leslie Sanchez. Telephone: (202) 401-1411. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act of 1974 (5 U.S.C. 552a(e)(4)) requires the Department to publish in the Federal Register this notice of a new system of records managed by the Department. The Department's regulations implementing the Privacy Act of 1974 are contained in the Code of Federal Regulations (CFR) in 34 CFR part 5b.

The Privacy Act of 1974 (Privacy Act), 5 U.S.C. 552a, applies to a record about an individual that is maintained in a system of records from which information is retrieved by a unique identifier associated with each individual, such as a name or social security number. The information about each individual is called a “record,” and the system, whether manual or computer-driven, is called a “system of records.” The Privacy Act requires each agency to publish notices of systems of records in the Federal Register and to prepare reports to the Office of Management and Budget (OMB) whenever the agency publishes a new or “altered” system of records.

Electronic Access to This Document

You may view this document, as well as all other Department of Education documents published in the Federal Register, in text or Adobe Portable Document Format (PDF) on the Internet at the following site: http://www.ed.gov/legislation/FedRegister/

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index/html

Dated: January 25, 2002.
Laurie Rich,
Assistant Secretary for Intergovernmental and Interagency, Affairs.

For the reasons discussed in the preamble, the Executive Director of the White House Initiative on Educational Excellence for Hispanic Americans of the U.S. Department of Education publishes a notice of a new system of records to read as follows:

18-06-05

System Name:

Partners in Education.

Security Classification:

None.

System Locations:

The White House Initiative Partners in Education is located at the White House Initiative on Educational Excellence for Hispanic Americans, Office of Intergovernmental and Interagency Affairs, U.S. Department of Education, 400 Maryland Avenue, SW., Federal Building 6, Room 5E110, Washington, DC 20202.

Categories of Individuals Covered by the System:

The system will contain information on individuals who have indicated an interest in receiving information about the White House Initiative, its publications and programs, and ways in which they can become partners.

This system contains records containing an individual's name, title, affiliation, mailing address, telephone number, fax, e-mail, and representational category (e.g. parents, educators, schools, school districts, businesses, etc.). The system generated identifier or “key” will consist of a combination of numbers and letters and is produced by the system of records automatically.

Authority for Maintenance of the System:

Executive Order 13230, 66 FR 52841.

Purpose(s):

The information contained in the records maintained in this system is used for the purposes of conducting individual, mass, and targeted mailings of White House Initiative program information, publications, and reports.

Routine Uses of Records Maintained in the System, Including Categories of Users and the Purposes of Such Uses:

The Department of Education (Department) may disclose information contained in a record in this system of records under the routine uses listed in this system of records without the consent of the individual if the disclosure is compatible with the purposes for which the record was collected. These disclosures may be made on a case-by-case basis or, if the Department has complied with the computer matching requirements of the Act, under a computer matching agreement.

(1) Other Agencies and Institutions. The Department may disclose records from the representational categories to Federal, State, or local agencies if the requested use is intended to fulfill that Federal, State, or local agency's responsibilities under Executive Order 13230, 66 FR 52841.

(2) Litigation and Alternative Dispute Resolution (ADR) Disclosures.

(a) Introduction. In the event that one of the following parties is involved in litigation or ADR, or has an interest in litigation or ADR, the Department may disclose certain records to the parties described in paragraphs (b), (c), and (d) of this routine use under the conditions specified in those paragraphs:

(i) The Department of Education, or any component of the Department; or

(ii) Any Department employee in his or her official capacity; or

(iii) Any Department employee in his or her individual capacity if the Department of Justice (DOJ) has agreed to provide or arrange for representation for the employee;

(iv) Any Department employee in his or her individual capacity if the agency has agreed to represent the employee; or

(v) The United States if the Department determines that the litigation is likely to affect the Department or any of its components.

(b) Disclosure to the Department of Justice. If the Department determines that disclosure of certain records to the DOJ is relevant and necessary to litigation or ADR, the Department may disclose those records as a routine use to the DOJ.

(c) Administrative or Judicial Disclosures. If the Department determines that disclosure of certain records to an adjudicative body before which the Department is authorized to appear, to an individual, or to an entity designated by the Department or otherwise empowered to mediate or resolve disputes is relevant and necessary to the litigation, the Department may disclose those records as a routine use to the adjudicative or judicial body, individual, or entity.

(d) Parties, Counsel, Representatives, and Witnesses. If the Department determines that disclosure of certain records to a party, counsel, representative, or witness in an administrative or judicial proceeding is relevant and necessary to the litigation, the Department may disclose those records as a routine use to the party, counsel, representative, or witness.

(3) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(4) Research Disclosure. The Department may disclose records to a researcher if an appropriate official of the Department determines that the individual or organization to which the disclosure would be made is qualified to carry out specific research that is compatible with the purposes of this system of records. The official may disclose records from this system of records to that researcher solely for the purpose of carrying out that research that is compatible with the purposes of this system of records. The researcher shall be required to maintain Privacy Act safeguards with respect to the disclosed records.

(5) Congressional Member Disclosure. The Department may disclose records to a member of Congress from the record of an individual in response to an inquiry from the member made at the written request of that individual. The member's right to the information is no greater than the right of the individual who requested it.

(6) Freedom of Information Act (FOIA) Advice Disclosure. In the event that the Department deems it desirable or necessary, in determining whether particular records are required to be disclosed under the Freedom of Information Act, disclosure may be made to the Department of Justice or the Office of Management and Budget for the purpose of obtaining their advice.

(7) Disclosure to the Department of Justice. The Department may disclose records to the DOJ to the extent necessary for obtaining DOJ advice on any matter relevant to an audit, inspection, or other inquiry related to the programs covered by this system.

Policies and Practices for Storing, Retrieving, Accessing, Retaining, and Disposing of Records in the System:

Storage:

The records are maintained on a computer and backed up on magnetic tape or other electronic media.

Retrievability:

Records will be retrieved by name, group, organization, and/or the requestor's regional location for the purpose of conducting targeted mailings.

Safeguards:

The system of records will be secured by permitting only designated individuals within the White House Initiative program staff access to the database. Furthermore, the designated individuals' access to personal computers, the network, and the system of records will require personal identifiers and unique passwords, which will be periodically changed to prevent unauthorized access. The building in which the system of records is housed is monitored by security personnel during business and non-business hours.

Retention and Disposal:

The Department will retain and dispose of these records in accordance with National Archives and Records Administration General Records Schedule 20, Item 14 for electronic mail requests and General Records Schedule 13, Item 14 for all other requests for information.

System Manager(s) and Address:

Associate Director, White House Initiative on Educational Excellence for Hispanic Americans, Office of Intergovernmental and Interagency Affairs, U.S. Department of Education, 400 Maryland Avenue, SW., Room 5E110, Washington, DC 20202.

Notification Procedure:

If you wish to determine whether a record exists regarding you in this system of records, provide the system manager with your name, address, phone number, and affiliation. Requests must meet the requirements of the regulations in 34 CFR 5b.5.

Record Access Procedures:

If you wish to gain access to a record in this system, contact the system manager and provide information as described in the notification procedure. Requests by an individual for access to a record must meet the requirements of the regulations in 34 CFR 5b.5.

Contesting Record Procedures:

If you wish to contest a record in the system of records, contact the system manager with the information described in the notification procedure, identify the specific items you are contesting, and provide a written justification for each item. Requests to amend a record must meet the requirements of the regulations in 34 CFR 5b.7.

Record Source Categories:

Information in this system of records is obtained from individuals who request, in writing, verbally, or electronically, to be listed on the system of records in order to receive information. The individual's affiliation will comprise the representational category. The system generated identifier or “key” will consist of a combination numbers and letters and is produced by the system of records automatically.

System Exempted From Certain Provisions of the Act:

None.

[FR Doc. 02-2227 Filed 1-29-02; 8:45 am]

BILLING CODE 4000-01-U